DEPARTMENT OF DEFENSE

GENERAL SERVICES ADMINISTRATION

NATIONAL AERONAUTICS AND SPACE ADMINISTRATION

[OMB Control No. 9000-0145; Docket 2012-0076; Sequence 23]

Federal Acquisition Regulation; Submission for OMB Review; Use of Data Universal Numbering System (DUNS) as Primary Contractor Identification

AGENCIES: Department of Defense (DOD), General Services Administration (GSA), and National Aeronautics and Space Administration (NASA).

ACTION: Notice of request for public comments regarding an extension to an existing OMB clearance.

SUMMARY: Under the provisions of the Paperwork Reduction Act Regulatory Secretariat will be submitting to the Office of Management and Budget (OMB) a request to review and approve an extension of a previously approved information collection requirement concerning use of the Data Universal Numbering System (DUNS) as primary contractor identification. The DUNS number is the nine-digit identification number assigned by Dun and Bradstreet Information Services to an establishment. A notice was published in the Federal Register at 77 FR 56212, on September 12, 2012. Three respondents submitted comments.

DATES: Submit comments on or before April 25, 2013.

ADDRESSES: Submit comments identified by Information Collection 9000-0145, Use of Data Universal Numbering System (DUNS) as Primary Contractor Identification, by any of the following methods:

• Regulations.gov: http://www.regulations.gov. Submit comments via the Federal eRulemaking portal by searching “Information Collection 9000-0145, Use of Data Universal Numbering System (DUNS) as Primary Contractor Identification” under the heading “Enter Keyword or ID” and selecting “Search”. Select the link “Submit a Comment” that corresponds with “Information Collection 9000-0145, Use of Data Universal Numbering System (DUNS) as Primary Contractor Identification”. Follow the instructions provided at the “Submit a Comment” screen. Please include your name, company name (if any), and “Information Collection 9000-0145, Use of Data Universal Numbering System (DUNS) as Primary Contractor Identification” on your attached document.

• Fax: 202-501-4067.

• Mail: General Services Administration, Regulatory Secretariat (MVCB), 1275 First Street NE., Washington, DC 20417. ATTN: Hada Flowers/IC 9000-0145, Transportation Requirements.

Instructions: Please submit comments only and cite Information Collection 9000-0145, Use of Data Universal Numbering System (DUNS) as Primary Contractor Identification, in all correspondence related to this collection. All comments received will be posted without change to http://www.regulations.gov, including any personal and/or business confidential information provided.

FOR FURTHER INFORMATION CONTACT: Mr. Curtis E. Glover, Sr., Procurement Analyst, Office of Governmentwide Acquisition Policy, GSA (202) 501-1448 or via email at curtis.glover@gsa.gov.

SUPPLEMENTARY INFORMATION:

I. Purpose

The Data Universal Numbering System (DUNS) number is the nine-digit identification number assigned by Dun and Bradstreet Information Services to an establishment. The Government uses the DUNS number to identify contractors in reporting to the Federal Procurement Data System (FPDS). The FPDS provides a comprehensive mechanism for assembling, organizing, and presenting contract placement data for the Federal Government. Federal agencies report data on all contracts in excess of the micro-purchase threshold to the Federal Procurement Data Center which collects, processes, and disseminates official statistical data on Federal contracting. Contracting officers insert the Federal Acquisition Regulation (FAR) provision at 52.204-6, Data Universal Numbering System (DUNS) Number, in solicitations they expect will result in contracts in excess of the micro-purchase threshold and do not contain FAR 52.204-7, Central Contractor Registration. The majority of offerors submit their DUNS through CCR as required by FAR 52.204-7, and not under the FAR provision at 52.204-6.

II. Discussion and Analysis

Three respondents submitted public comments on the extension of the previously approved information collection. The analysis of the public comments is summarized as follows:

Comment: Three respondents commented that they supported the continued use of the Data Universal Numbering System as the primary contractor identification.

Response: The comments are noted.

Comment: One respondent commented that the extension of the information collection would violate the fundamental purposes of the Paperwork Reduction Act because of the burden it puts on the entity submitting the information and the agency collecting the information.

Response: In accordance with the Paperwork Required Act (PRA), agencies can request an OMB approval of an existing information collection. The PRA requires that agencies use the Federal Register notice and comment process, to extend the OMB's approval, at least every three years. This extension, to a previously approved information collection, pertains to FAR Subpart 4.6, Contract Reporting. The contracting officer must identify and report a DUNS number (Contractor Identification Number) for the successful offeror on a contract action in the Federal Procurement Data System (FPDS). The DUNS number reported must identify the successful offer's name and address as stated in the offer and resultant contract. Not granting this extension would consequently eliminate the Government's ability to use the DUNS number to report information on federal contract awards.

Comment: One respondent commented that the Agency did not accurately estimate the public burden an extension of the information collection requirement would create.

Response: The DUNS number is a widely used number for identifying companies conducting business in the private sector. It is anticipated that the DUNS number is readily available, so the estimated average of 1.5 minutes to comply with providing the DUNS number appears reasonable for this collection, however; based on a reassessment, an adjustment has been made to increase the average estimate to 10 minutes. The number of estimated respondents remains at 38,679. The number of unique large and small business contractors who received new awards or orders of $3K or more in the Federal Procurement Data System database for Fiscal Year (FY) 2011 is 193,397. It is estimated that twenty percent (or 38,679) of the contractors would have been required to submit their DUNS number under FAR provision 52.204-6 on an average of three solicitations in FY11. The majority of contractors will not be required to submit their DUNS under FAR provision 52.204-6. This is due to the fact that FAR Clause 52.204-7, Central Contractor Registration (CCR), is required to be inserted in the majority of solicitations and contracts except as provided in 4.1102(a). FAR Clause 52.204-7 requires vendors to provide their DUNS number in CCR.

Comment: One respondent commented that the collective burden of compliance with the information collection requirement greatly exceeds the Agencies estimate and outweighs any potential utility of the extension.

Response: The Paperwork Reduction Act (PRA) was designed to improve the quality and use of Federal information to strengthen decision-making, accountability, and openness in government and society. Central to this process is the solicitation of comments from the public. This process incorporates an enumerated specification of targeted information and provides interested parties a meaningful opportunity for comment on the relevant compliance cost. This process has led to decreases in the overall collective burden of compliance for the information collection requirement in regards to the public. Based on OMB estimates, in FY 2010, the public spent 8.8 billion hours responding to information collections. This was a decrease of one billion hours, or ten percent from the previous fiscal year. In effect, the collective burden of compliance for the public is going down as the Government publishes rules that make the process less complex, more transparent, and reduces the cost of federal regulations to both the Contractor community and Government.

Comment: One respondent commented that the Government's response to the Paperwork Reduction Act waiver for Far Case 2007-006 is instructive on the total burden for respondents.

Response: Serious consideration is given, during the open comment period, to all comments received and adjustments are made to the paperwork burden estimate based on reasonable considerations provided by the public. This is evidenced, as the respondent notes, in FAR Case 2007-006 where an adjustment was made from the total preparation hours from three to 60. This change was made considering particularly the hours that would be required for review within the company, prior to release to the Government.

The burden is prepared taking into consideration the necessary criteria in OMB guidance for estimating the paperwork burden put on the entity submitting the information. For example, consideration is given to an entity reviewing instructions; using technology to collect, process, and disclose information; adjusting existing practices to comply with requirements; searching data sources; completing and reviewing the response; and transmitting or disclosing information. The estimated burden hours for a collection are based on an average between the hours that a simple disclosure by a very small business might require and the much higher numbers that might be required for a very complex disclosure by a major corporation. Also, the estimated burden hours should only include projected hours for those actions which a company would not undertake in the normal course of business. Careful consideration went into assessing the estimated burden hours for this collection, however, at any point, members of the public may submit comments for further consideration, and are encouraged to provide data to support their request for an adjustment.

III. Annual Reporting Burden

The estimated annual reporting burden has been adjusted since published in the Federal Register at 74 FR 37991, on July 30, 2009. The adjustment is based on use of Fiscal Year 2011 Federal Procurement Data System data, consideration for the fact that the majority of vendors are required to report their DUNS number into the Central Contractor Registration per FAR 52.204-7, and not FAR.204-6, as required by this information collection, and reassessment of the estimated response time.

Respondents: 38,679.

Responses per Respondent: 3.

Annual Responses: 116,037.

Hours per Response: .1666.

Total Burden Hours: 19,332.

Obtaining Copies of Proposals: Requesters may obtain a copy of the information collection documents from the General Services Administration, Regulatory Secretariat (MVCB), 1275 First Street NE., Washington, DC 20417, telephone (202) 501-4755. Please cite OMB Control Number 9000-0145, Use of Data Universal Numbering System (DUNS) as Primary Contractor Identification, in all correspondence.

Dated: March 21, 2013.
William Clark,
Acting Director, Federal Acquisition Policy Division, Office of Governmentwide Acquisition Policy, Office of Acquisition Policy, Office of Governmentwide Policy.

[FR Doc. 2013-06921 Filed 3-25-13; 8:45 am]

BILLING CODE 6820-EP-P